DEPARTMENT OF COMMERCE

International Trade Administration

A-570-846

Brake Rotors from the People's Republic of China: Notice of Amended Final Results of Administrative Review Pursuant to Court Decision

AGENCY: Import Administration, International Trade Administration, Department of Commerce.

EFFECTIVE DATE: April 3, 2009.

FOR FURTHER INFORMATION CONTACT: Paul Walker, AD/CVD Operations, Office 9, Import Administration, International Trade Administration, U.S. Department of Commerce, 14th Street and Constitution Avenue, NW, Washington, DC 20230; telephone: 202-482-0413.

SUPPLEMENTARY INFORMATION:

Background

The original publication of this notice occurred on March 16, 2009. See Brake Rotors from the People's Republic of China: Notice of Amended Final Results of Administrative Review Sales at Less Than Fair Value and Antidumping Duty Order Pursuant to Court Decision, 74 FR 11081(March 16, 2009). Due to several inadvertent errors in the Federal Register notice, we are republishing the notice in its entirety. Specifically, there were errors in the title, the listed period of review (“POR”) and two misspellings in the “Amended Final Results” section.

This matter arose from a challenge to the Final Results issued by the Department of Commerce (“Department”) for the period of review (“POR”) April 1, 2004, through March 31, 2005.¹ See Brake Rotors from the People's Republic of China: Final Results and Partial Rescission of the 2004/2005 Administrative Review and Notice of Rescission of 2004/2005 New Shipper Review, 71 FR 66304 (November 14, 2006) (“Final Results”). Following publication of the Final Results, the Respondents² filed a lawsuit with the Court of International Trade (“CIT”) challenging the Department's Final Results. The Respondents contested several aspects of the Final Results, including the Department's surrogate valuation for steel scrap.

¹ We note that the Court of International Trade cited an incorrect POR of April 1, 2005, through May 31, 2006 in its decision. See Laizhou Auto Brake Equipment Company, et. al. v. United States, Court No. 06-00430, Slip Op. 08-120 (CIT November 5, 2008) (“Laizhou II”). The CIT corrected this error on February 20, 2009. See Laizhou II Errata, dated February 20, 2009.

² The Respondents referenced here are Longkou Haimeng Machinery Co., Ltd., Hongfa Machinery (Dalian) Co., Ltd., Laizhou Auto Brake Equipment Co., Ltd., Laizhou City Luqi Machinery Co., Ltd., Laizhou Hongda Auto Replacement Parts Co., Ltd., and Qingdao Gren (Group) Co.

On June 26, 2008, the CIT directed the Department to: 1) explain whether the rejected rotors, casting strands/handles, etc., reintroduced into the production process should be properly accounted for in the factor of production “STLSCRAP”; 2) address the issue of the composition of the predominant scrap used in the production process; 3) address respondents' argument that the Department should be solely focusing on the type of scrap the Respondents reported in the factor field “STLSCRAP”; and 4) explain whether the Department has in fact reassessed its position in subsequent reviews as to the proper harmonized tariff schedule (“HTS”) classification of the Respondents' scrap. See Laizhou Auto Brake Equipment Company, et. al. v. United States, Court No. 06-00430, Slip Op. 08-71 (CIT June 26, 2008) (“Laizhou I”), at 17-18. Pursuant to the CIT's remand instructions, we reexamined the record and determined that the best available information on the record with which to value steel scrap is HTS 7204.49.00 (other ferrous waste and scrap (“ferrous scrap”)), rather than HTS 7204.10.00 (waste and scrap of cast iron (“cast iron scrap”)) which was used in the Final Results.

The Department released the Draft Results of Redetermination Pursuant to Court Remand to interested parties on September 8, 2008. No party submitted comments. On September 24, 2008, the Department filed its final results of redetermination pursuant to Laizhou I with the CIT. See Final Results of Redetermination Pursuant to Court Remand, Court No. 06-00430 (September 24, 2008) (“Final Redetermination”). In responding to the CIT's questions and reassessing the record evidence, we have determined it appropriate to value steel scrap using HTS 7204.49.00 (ferrous scrap), instead of the previously selected value, HTS 7204.10.00 (cast iron scrap). We note that respondents reported purchasing steel scrap that is captured under HTS 7204.49.00, and there is no record evidence which contradicts this assertion. The Department valued HTS 7204.49.00 using publicly available Indian import statistics for the POR from the World Trade Atlas (“WTA”).³ Thus, the Department revised, as appropriate, the remanded steel scrap surrogate value selection components of the margin calculations of Longkou Haimeng Machinery Co., Ltd. and Hongfa Machinery (Dalian) Co., Ltd. The Department also revised the “sample rate” applicable to the non-mandatory respondents separate from the PRC-wide entity who are parties to this litigation: Laizhou Auto Brake Equipment Co., Ltd.; Laizhou City Luqi Machinery Co., Ltd.; Laizhou Hongda Auto Replacement Parts Co., Ltd.; and Qingdao Gren (Group) Co.⁴ On November 5, 2008, the CIT sustained all aspects of the remand redetermination made by the Department pursuant to the CIT's remand of the Final Results. See Laizhou II.

³ WTA is published by Global Trade Information Services, Inc., which is a secondary electronic source based upon the publication, Monthly Statistics of the Foreign Trade of India, Volume II: Imports. See http://www.gtis.com/wta.htm.

⁴ For the sample rate calculation which includes other mandatory respondents, please see Memo to the File, through Scot T. Fullerton, Program Manager, Office 9, from Toni Dach, International Trade Compliance Analyst, Office 9, Regarding “Calculation of the ‘Sample Rate' for the Draft Redetermination of the 2004/2005 Administrative Review of Brake Rotors from the People's Republic of China,” dated September 8, 2008.

On November 21, 2008, consistent with the decision in Timken Co. v. United States, 893 F.2d 337 (Fed. Cir. 1990), the Department notified the public that the Court's decision was not in harmony with the Department's final results. See Brake Rotors Timken Notice. See Brake Rotors from the People's Republic of China: Notice of Court Decision Not In Harmony With Final Results of Administrative Review, 73 FR 70618 (November 21, 2008) . No party appealed the CIT's decision. As there is now a final and conclusive court decision in this case, we are amending our Final Results.

Amended Final Results

As the litigation in this case has concluded, the Department is amending the Final Results to reflect the results of our remand determination. The revised dumping margins for the order on brake rotors in the amended final results are as follows:

Exporter | Margin
Hongfa Machinery (Dalian) Co. | 0.01% (de minimis)
Laizhou Auto Brake Equipment Company | 6.20%
Laizhou Luqi Machinery Co., Ltd. | 6.20%
Laizhou Hongda Auto Replacement Parts Co., Ltd. | 6.20%
Longkou Haimeng Machinery Co., Ltd. | 0.01% (de minimis)
Qingdao Gren (Group) Co. | 6.20%

The Department intends to issue instructions to U.S. Customs and Border Protection (“CBP”) fifteen days after publication of this notice, to revise the cash deposit rates for the companies listed above, effective as of the publication date of this notice. In addition, we will also instruct CBP to liquidate all entries at the appropriate rates.

This notice is published in accordance with sections 751(a)(1) and 777(i) of the Tariff Act of 1930, as amended.

Dated: March 27, 2009.
Ronald K. Lorentzen,
Acting Assistant Secretary for Import Administration.

[FR Doc. E9-7522 Filed 4-2-09; 8:45 am]

BILLING CODE 3510-DS-S